NATIONAL SCIENCE FOUNDATION

Advisory Committee for Computer and Information Science and Engineering; Committee of Visitors; Notice of Meeting

In accordance with the Federal Advisory Committee Act (Pub. L. 92-463, as amended), the National Science Foundation announces the following meeting:

Name: Advisory Committee for Computer and Information Science and Engineering (1115).

Date & Time: June 14-15, 2000, 8:30 a.m.-5 p.m. each day.

Place: Room 1175, NSF, 4201 Wilson Boulevard, Arlington, VA.

Type of Meeting: Part open (see Agenda, below).

Contact Person: Dr. Aubrey M. Bush, Division Director, Advanced Networking Infrastructure and Research, National Science Foundation, 4201 Wilson Boulevard, Arlington, VA 22230. Telephone: (703) 306-1950.

Purpose of Meeting: To carry out Committee of Visitors (COV) review, including program evaluation, GPRA assessments, and access to privileged materials.

Agenda

Closed: June 14

To review the merit review processes covering funding decisions made during the immediately preceding three fiscal years of the Networking Infrastructure, Networking Research, and Special Projects Programs.

Open: June 15

To assess the results of NSF program investments in the Advanced Networking Infrastructure and Research Division. This shall involve a discussion and review of results focused on NSF and grantee outputs and related outcomes achieved or realized during the preceding three fiscal years. These results may be based on NSF grants or other investments made in earlier years.

Reason for Closing: During the closed session, the Committee will be reviewing proposal actions that will include privileged intellectual property and personal information that could harm individuals if they are disclosed. If discussions were open to the public, these matters that are exempt under 5 U.S.C. 552b(c), (4) and (6) of the Government in the Sunshine Act would be improperly disclosed.

Note: Closed portions are proper under the Sunshine Act exemptions cited. The CMO's signature on this Notice is the required determination.

Dated: May 23, 2000.
Karen J. York,
Committee Management Officer.

[FR Doc. 00-13423 Filed 5-26-00; 8:45 am]

BILLING CODE 7555-01-M